NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC recently has submitted to OMB for review the following proposal for the collection of information under the provisions of the Paperwork Reduction Act of 1995 (44 U.S.C. Chapter 35). The NRC hereby informs potential respondents that an agency may not conduct or sponsor, and that person is not required to respond to, a collection of information unless it displays a currently valid OMB control number.

1. Type of submission, new, revision, or extension: Revision.

2. The title of the information collection: NRC Form 7, “Application for NRC Export/Import License, Amendment, or Renewal,” formerly, “Application for License to Export Nuclear Equipment and Material.”

3. The form number if application: NRC Form 7.

4. How often is the collection required: On occasion; for each separate export, import, amendment, or renewal license application, and for exports of incidental radioactive material using existing general licenses.

5. Who is required or asked to report: Any person in the U.S. who wishes to export or import (a) Nuclear material and equipment subject to the requirements of a specific license; (b) amend a license; (c) renew a license, and (d) for notification of incidental radioactive material exports that are contaminants of shipments of more than 100 kilograms of non-waste material using existing NRC general licenses.

6. An estimate of the number of responses: 319.

7. The number of annual respondents: 319.

8. The number of hours needed annually to complete the requirement or request: 788 hours (2.4 hours per response).

9. An indication of whether section 3507(d), Public Law 104-13 applies: Not applicable.

10. Abstract: Persons in the U.S. wishing to export or import nuclear material and equipment requiring a specific authorization, amend or renew a license, or wishing to use existing NRC general licenses for the export of incidental radioactive material over 100 kilograms must file an NRC Form 7 application. The NRC Form 7 application will be reviewed by the NRC and by the Executive Branch, and if applicable statutory, regulatory, and policy considerations are satisfied, the NRC will issue an export, import, amendment or renewal license.

A copy of the supporting statement may be viewed free of charge at the NRC Public Document Room, One White Flint North, 11555 Rockville Pike, Room 0-1 F21, Rockville, MD 20852. OMB clearance requests are available at the NRC worldwide Web site http://www.nrc.gov/public-involve/doc-comment/omb/index.html. The document will be available on the NRC home page site for 60 days after the signature date of this notice.

Comments and questions should be directed to the OMB reviewer listed below by May 8, 2006. Comments received after this date will be considered if it is practical to do so, but assurance of consideration cannot be given to comments received after this date.

John A. Asalone, Office of Information and Regulatory Affairs (3150-0027), NEOB-10202, Office of Management and Budget.

Comments also can be e-mailed to John_A._Asalone@omb.eop.gov or submitted by telephone at (202) 395-4650.

The NRC Clearance Officer is Brenda Jo. Shelton, (301) 415-7233.

Dated at Rockville, Maryland, this 30th day of March 2006.
For the Nuclear Regulatory Commission.
Brenda J. Shelton,
NRC Clearance Officer, Office of Information Services.

[FR Doc. E6-5079 Filed 4-6-06; 8:45 am]

BILLING CODE 7590-01-P